DEPARTMENT OF EDUCATION

Office of Safe and Drug-Free Schools Discretionary Grant Programs

Catalog of Federal Domestic Assistance (CFDA) Numbers: 84.184A, 84.184J, 84.184L, 84.215H, 84.215M, 84.215E.

Office of Safe and Drug-Free Schools—Discretionary Grant Programs

AGENCY: Office of Safe and Drug-Free Schools, Department of Education.

ACTION: Notice of proposed priority.

SUMMARY: The Assistant Deputy Secretary for Safe and Drug-Free Schools proposes a competitive preference priority for the following discretionary grant programs administered by the Office of Safe and Drug-Free Schools (OSDFS Discretionary Grant Programs):

Grants to Reduce Alcohol Abuse (CFDA No. 84.184A).

Grants for the Integration of Schools and Mental Health Systems (CFDA No. 84.215M).

Safe Schools/Healthy Students (CFDA Nos. 84.184J, 84.184L).

Foundations for Learning (CFDA No. 84.215H).

Elementary and Secondary School Counseling (CFDA No. 84.215E).

The Department may use the proposed competitive preference priority for competitions under the OSDFS Discretionary Grant Programs in fiscal year (FY) 2011 and subsequent years. The Department takes this action to align the OSDFS Discretionary Grant Programs with identified needs of American Indian and Alaska Native (AI/AN) youths who are members of federally recognized tribes. The Department intends this competitive preference priority to enhance the ability of applicants serving tribal communities to address the substance abuse and mental health crises that affect AI/AN students.

DATES: We must receive your comments on or before April 14, 2011.

ADDRESSES: Address all comments about the proposed priority to Donald Yu, U.S. Department of Education, 400 Maryland Avenue, SW., room 6E308, Washington, DC 20202-6450. If you prefer to send your comments by e-mail, use the following address: Donald.Yu@ed.gov.

You must include the phrase “Office of Safe and Drug-Free Schools—Comments on Proposed Priority” in the subject line of your electronic message.

FOR FURTHER INFORMATION CONTACT: Donald Yu. (202) 205-4499.

If you use a telecommunications device for the deaf (TDD), call the Federal Relay Service (FRS), toll free, at 1-800-877-8339.

SUPPLEMENTARY INFORMATION:

Invitation to Comment: We invite you to submit comments regarding the proposed priority. We invite you to assist us in complying with the specific requirements of Executive Order 12866 and its overall requirement of reducing regulatory burden that might result from this proposed priority. Please let us know of any further opportunities we should take to reduce potential costs or increase potential benefits while preserving the effective and efficient administration of the OSDFS Discretionary Grant Programs.

During and after the comment period, you may inspect all public comments about this proposed priority, in room 6E308, 400 Maryland Avenue, SW., Washington DC, between the hours of 8:30 a.m. and 4:00 p.m., Washington, DC time, Monday through Friday of each week except Federal holidays.

Assistance to Individuals With Disabilities in Reviewing the Rulemaking Record:

On request, we will supply an appropriate accommodation or auxiliary aid to an individual with a disability who needs assistance to review the comments or other documents in the public rulemaking record for this notice. If you want to schedule an appointment for this type of accommodation or auxiliary aid, please contact the person listed under FOR FURTHER INFORMATION CONTACT.

Program Authority: 20 U.S.C. 1221e-3; 20 U.S.C. 7139; 20 U.S.C. 7269; 20 U.S.C. 7131; 20 U.S.C. 7269a; 20 U.S.C. 7245.

Proposed Priority: This notice contains one proposed priority.

Background: On November 5, 2009, President Obama signed a memorandum requiring Federal agencies to conduct consultations with tribal officials when developing policies that have tribal implications. In response to the President's memorandum, the Department conducted six consultations with tribal officials during FY 2010. During these consultations, the Department received numerous comments regarding the social and mental well-being of AI/AN youth. Specifically, the Department heard that emotional, behavioral, and psychological problems were significantly and adversely affecting the ability of AI/AN youth to succeed in school.

Reports indicate that tribal communities experience high rates of crime, substance abuse, mental health distress, and suicide. Although data on crime are limited, the incarceration rate for AI/ANs in 2008 was approximately 21 percent higher than the national incarceration rate for persons other than American Indians or Alaska Natives.¹ Federal statistics indicated AI/ANs were, in 1999-2002 (the most recent year for which these data are available), the victims of violent crime at more than twice the national rate, with incidence of homicide and domestic violence much higher than the national average.²

¹ U.S. Department of Justice, Office of Justice Programs, Bureau of Justice Statistics. Jails in Indian Country, 2008, available online at: http://bjs.ojp.usdoj.gov/content/pub/pdf/jic08.pdf, 2009.

² U.S. Department of Justice, Office of Justice Programs. Bureau of Justice Statistics American Indians and Crime Report, available online at: http://bjs.ojp.usdoj.gov/index.cfm?ty=pbdetail&iid=386, 2004.

In addition, compared with other racial groups in the United States, AI/ANs suffer disproportionately from substance use disorders.³ The 2009 National Survey on Drug Use and Health (NSDUH), administered by the U.S. Department of Health and Human Services, Substance Abuse and Mental Health Services Administration, found that AI/AN adolescents ages 12 to 17 reported using illicit drugs at nearly twice the rate of other youth in that age group nationally.⁴ The NSDUH also reported an increase from 2008 to 2009 in the rate of drug use among AI/AN youth aged 12 and older—from 9.8 percent to 18.3 percent.⁵

³ Substance Abuse and Mental Health Services Administration, Office of Applied Studies, The NSDUH Report, “Substance Use and Substance Use Disorders among American Indians and Alaska Natives,” available online at: http://www.oas.samhsa.gov/2k7/AmIndians/AmIndians.pdf, 2007.

⁴ U.S. Department of Health and Human Services, Substance Abuse and Mental Health Services Administration. National Survey on Drug Use and Health (NSDUH): Use of Tobacco, Illegal Substances, by Age Groups 12-17 and 18-25 Years, Native American Compared to Other Race/Ethnicity, available online at: http://oas.samhsa.gov/NSDUH/2k9NSDUH/2k9Results.htm, 2009.

⁵ Id.

Studies by the Centers for Disease Control and Prevention also underscore the mental health crisis affecting AI/AN youth. From 1997-1998 through 2005-2006, the percentage of AI/AN youth experiencing serious psychological distress was the highest among all racial or ethnic groups, and in 2008 the suicide rate for such youth ages 15 to 19 was more than twice the rate of other youth in the same age range.⁶ ⁷ Importantly, most mental, emotional, and behavioral (MEB) disorders have their roots in early childhood. Among adults reporting a MEB disorder during their lifetime, more than half traced the onset to childhood or adolescence.⁸

⁶ Centers for Disease Control (CDC), Health United States, 2008. Table 61, available online at: http://www.cdc.gov/nchs/data/hus/hus08.pdf, 2009.

⁷ CDC. National Center for Injury Prevention and Control. Web-based Injury Statistics Query and Reporting System (WISQARS). http://www.cdc.gov/injury/wisqars/index.html, 2006.

⁸ Kessler, RC, Berglund, P, Demler, O, et al. Lifetime prevalence and age-of-onset disturbances of DSM-IV disorders in the national comorbidity survey replication. Archives of General Psychiatry. 2005; 62(6) 593-602.

These challenges—crime, early drug and alcohol abuse, anxiety, aggressive or antisocial behavior, and the suicide crisis in tribal communities—have serious and lasting consequences for AI/AN children and adolescents, and interfere with their ability to succeed in and graduate from school.⁹ ¹⁰ ¹¹

⁹ U.S. Department of Education, Institute of Education Sciences, Status and Trends in the Education of American Indians and Alaska Natives, 2008.

¹⁰ U.S. Department of Education, Institute of Education Sciences, National Center for Education Statistics, National Indian Education Study 2009, Part I: Performance of American Indian and Alaska Native Students at Grades 4 and 8 on NAEP 2009 Reading and Mathematics Assessments, available online at http://nces.ed.gov/nationsreportcard/pdf/studies/2010462.pdf, 2009.

¹¹ Faircloth, Susan C., & Tippeconnic, III, John W. (2010). The Dropout/Graduation Rate Crisis Among American Indian and Alaska Native Students: Failure to Respond Places the Future of Native Peoples at Risk. Los Angeles, CA: The Civil Rights Project/Proyecto Derechos Civiles at UCLA; http://www.civilrightsproject.ucla.edu.

The OSDFS Discretionary Grant Programs listed in this notice are currently the Department's principal levers for addressing the problems identified above. Through the Department's alignment of the OSDFS Discretionary Grant Programs with these identified needs, applicants serving tribal communities would likely have greater access to the resources needed to address the substance abuse and mental health issues their students face.

To increase tribal communities' access to the OSDFS Discretionary Grant Programs, the Department proposes a competitive preference priority for five discretionary grant programs administered by the Department's Office of Safe and Drug-Free Schools: (1) Grants to Reduce Alcohol Abuse (CFDA No. 84.184A), which helps local educational agencies (LEAs) develop and implement innovative and effective alcohol abuse prevention programs for secondary school students; (2) Grants for the Integration of Schools and Mental Health Systems (CFDA No. 84.215M), which helps grantees increase student access to quality mental health care by developing policies, protocols, and infrastructure linking schools and mental health systems; (3) Safe Schools/Healthy Students CFDA Nos. 84.184J and 84.184L), which supports the development of community-wide approaches to promoting healthy childhood development, preventing violence and the illegal use of drugs, and promoting safety and discipline; (4) Foundations for Learning (CFDA No. 84.215H), which seeks to help eligible children prepare for school by delivering and coordinating services that foster emotional, behavioral, and social development, as well as supporting community partnerships for that purpose; and (5) Elementary and Secondary School Counseling (CFDA No. 84.215E), which supports efforts by LEAs to establish or expand elementary school and secondary school counseling programs.

Each of these programs can address the root causes of many problems AI/AN youth face and help enable the systems that serve them to be more integrated, comprehensive, and responsive.

Proposed Competitive Preference Priority: Projects that are proposed by any eligible entity serving students residing on “Indian lands” as that term is defined by section 8013 of the Elementary and Secondary Education Act of 1965, as amended (20 U.S.C. 7713(7)). The eligible entity must be the only applicant or the lead applicant in a consortium of eligible entities.

Note: The Department will announce the final priority in a notice in the Federal Register. The Department will determine the final priority after considering responses to this notice and other information available to the Department. This notice does not preclude us from proposing or using additional priorities subject to meeting applicable rulemaking requirements.

Note: This notice does not solicit applications. In any year in which we choose to use this priority, we will announce the priority in the Federal Register notice governing the applicable grant competition.

Executive Order 12866: This notice of proposed priority has been reviewed in accordance with Executive Order 12866. Under the terms of the order, we have assessed the potential costs and benefits of this regulatory action.

The potential costs associated with this notice of proposed priority are those we have determined as necessary for administering the OSDFS Discretionary Grant Programs effectively and efficiently. The benefit of this proposed priority is to increase federally recognized tribal communities' access to a set of programs that address the unique social, emotional, and academic needs of AI/AN youth.

In assessing the potential costs and benefits—both quantitative and qualitative—of this notice of proposed priority, we have determined that the benefits of the proposed priority justify the costs.

We have also determined that this regulatory action does not unduly interfere with State, local, and tribal governments in the exercise of their governmental functions.

Intergovernmental Review: This program is subject to Executive Order 12372 and the regulations in 34 CFR part 79. One of the objectives of the Executive Order is to foster an intergovernmental partnership and a strengthened federalism. The Executive Order relies on processes developed by State and local governments for coordination and review of proposed Federal financial assistance.

This document provides early notification of our specific plans and actions for this program.

Executive Order 13175: Executive Order 13175 (“Consultation and Coordination with Indian Tribal Governments”) provides that each Federal agency must have an accountable process to ensure regular and meaningful consultation and collaboration with Indian tribal governments or their representative organizations in the development of regulatory policies that have tribal implications. As part of this process, before publishing this notice of proposed priority, we have conducted official tribal consultations with tribal leaders who represent federally recognized tribes across the country. We are specifically inviting input from Indian tribal officials concerning this proposed priority as part of the process of consultation required by the Executive order.

Accessible Format: Individuals with disabilities can obtain this document in an accessible format (e.g., braille, large print, audiotape, or computer diskette) on request to the contact person listed under FOR FURTHER INFORMATION CONTACT.

Electronic Access to This Document: You may view this document, as well as all other documents of this Department published in the Federal Register, in text or Adobe Portable Document Format (PDF) on the Internet at the following site: http://www.ed.gov/news/fedregister.

To use PDF, you must have Adobe Acrobat Reader, which is available free at this site.

Note: The official version of this document is the document published in the Federal Register. Free Internet access to the official edition of the Federal Register and the Code of Federal Regulations is available on GPO Access at: http://www.gpoaccess.gov/nara/index.html.

Dated: March 9, 2011.
Kevin Jennings,
Assistant Deputy Secretary for Safe and Drug-Free Schools.

[FR Doc. 2011-5998 Filed 3-14-11; 8:45 am]

BILLING CODE 4000-01-P